FEDERAL MARITIME COMMISSION

Ocean Transportation Intermediary License; Applicants

Notice is hereby given that the following applicants have filed with the Federal Maritime Commission an application for license as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants:

Future Maritime Group Inc., 26-15 Parsons Blvd., Unit F, Flushing, NY 11354, Officers: Hong Li Han, Vice President, (Qualifying Individual), Shen Yong Zhen, Director.

Spartan Shipping, Inc., 1890 NW 82 Avenue, Suite 110, Miami, FL 33126, Officer: Dennis J. Bauman, President, (Qualifying Individual).

Fleischer Freight Services, Inc., 930 W. Hyde Park Blvd., Inglewood, CA 90302, Officers: Richard G. Fleischer, Jr., President, (Qualifying Individual), Jacqueline Ann Fleischer, Secretary.

Cala Distribution, L.C., 2279 NW 102 Place, Miami, FL 33172-2523, Officer: Ana J. Martinez, Asst. Manager, (Qualifying Individual).

ITLC Corporation, 17337 Ventura Blvd., Suite 200, Encino, CA 91316, Officer:Iouri Zdjanski, President, (Qualifying Individual).

Nick International Shipping Inc., dba Olimpia Sandoval, 1841 Carter Avenue, Bronx, NY 10457, Officers: Olimpia Sandoval, President, (Qualifying Individual), Nicholas Sandoval, Vice President.

Inter-Cargo, Inc., 1990 NW 95th Avenue, Miami, FL 33172, Officers: Flora B. Bofill, President, (Qualifying Individual), Ariana M. Kumpis, Vice President.

Olympiad Line, LLC., PO Box 52, 173 Route 526, Imlaystown, NJ 08526, Officers: Wally Kopec, President, (Qualifying Individual), Anthony Marco, Secretary.

Non-Vessel Operating Common Carrier and Ocean Freight Forwarder Transportation Intermediary Applicants

Advanced Global Logistics, LLC, 535 West 34th Street, New York, NY 10001, Officers:Michael B. Deitchman, President, (Qualifying Individual), Arthur Solomon, Vice President.

Unitex International Forwarding (HK) Ltd., Room 1505, Premier Center, 20 Cheung Shun St, Cheung Sha Wan-Kowloon, Hong Kong S.A.R. China, Officers: Zsang Hing Kwan, Director, (Qualifying Individual), Ngo Kit Wan, Director.

Ocean Freight Forwarder—Ocean Transportation Intermediary Applicant

Alpha Freight & Transport International Inc., 7270 NW 12th Street, Suite 620, Miami, FL 33126, Officers:Vilma Martinez, Secretary, (Qualifying Individual), Luis F. Ahumada, President.

Dated: February 14, 2002.
Bryant L. VanBrakle,
Secretary.

[FR Doc. 02-4079 Filed 2-19-02; 8:45 am]

BILLING CODE 6730-01-P